DEPARTMENT OF COMMERCE

National Institute of Standards and Technology

Advanced Technology Program; Announcement of a Public Meeting

AGENCY: National Institute of Standards and Technology, Commerce.

ACTION: Notice of public meeting.

SUMMARY: The National Institute of Standards and Technology (NIST) invites interested parties to attend the Advanced Technology Program (ATP) National Meeting, “Technologies at the Crossroads: Frontiers of the Future”. ATP provides a mechanism for industry to extend its technological reach and improve the quality of life and acts as a facilitator to encourage companies, universities, and research organizations to work jointly and creatively to develop new, synergistic technologies that will benefit the nation.

DATES: The National Meeting will be held on June 3, 2001, from 5:00 p.m. to 7:00 p.m. The Meeting will continue on June 4, 2001, from 8:00 a.m. to 7:00 p.m. and on June 5, 2001, from 7:30 a.m. to 4:00 p.m.

ADDRESSES: The meeting will be held at the Wyndham Baltimore Inner Harbor Hotel, 101 West Fayette Street, Baltimore, Maryland 21201. The hotel can be reached at (410) 752-1100.

FOR FURTHER INFORMATION CONTACT: Linda Engelmeier at (301) 975-6026 or e-mail: Linda.Engelmeier@nist.gov.

SUPPLEMENTARY INFORMATION: The ATP statute originated in the Omnibus Trade and Competitiveness Act of 1988 (Public Law 100-418) and was amended by the American Technology Preeminence Act of 1991 (Public Law 102-245). This law is codified at 15 U.S.C. 278n. The ATP implementing regulations are published at CFR part 295, as amended. The ATP is a competitive cost-sharing program designed for the Federal government to work in partnership with industry, universities, and states to accelerate the development and broad dissemination of challenging, high-risk technologies that offer the potential for significant commercial payoffs and widespread benefits for the nation.

The National Meeting will feature keynote and futurist speakers who will provide insights into the “Frontiers of the Future”. Meeting sessions are designed to stimulate and encourage attendees to pursue research leading to path-breaking, innovative technologies that will make a difference in people's lives and focus on the technology crossroads that will lead us from today to the frontiers of tomorrow. Highlights of the meeting include eight forums featuring national and international experts in various technology fields; an opportunity to meet with NIST scientists at Poster Sessions demonstrating advances in the chemical, physical, and biological areas of science that have direct impact on advances in all technologies; an ATP/Industry Showcase, featuring quality projects that have received ATP funding assistance; a Venture Capital forum to hear how venture capital firms decide which technologies to fund out of an expanding universe of emerging technologies; and interactive networking opportunities with leaders in “cutting edge” technologies and ATP program managers and business experts. Information on the meeting agenda and the registration requirements can be found at the ATP website at www.atp.nist.gov. There is a registration fee of $525.

Dated: April 30, 2001.
Karen H. Brown,
Acting Director.

[FR Doc. 01-11179 Filed 5-3-01; 8:45 am]

BILLING CODE 3510-13-M